RAILROAD RETIREMENT BOARD

Sunshine Act Meetings

TIME AND DATE: 10:00 a.m., March 18, 2020.

PLACE: 8th Floor Board Conference Room, 844 North Rush Street, Chicago, Illinois 60611.

STATUS: This meeting will be open to the public.

MATTERS TO BE CONSIDERED:

1. Wisconsin Central SCOTUS decision next steps.

2. Status of Chief Medical Officer position.

3. Fraud Risk Assessment Committee taskforce next steps/Disability process improvement recommendations.

4. High-level budget overview.

CONTACT PERSON FOR MORE INFORMATION: Stephanie Hillyard, Secretary to the Board, Phone No. 312-751-4920.

(Authority: 5 U.S.C. 552b)

Dated: March 5, 2020.
Stephanie Hillyard,
Secretary to the Board.

[FR Doc. 2020-04861 Filed 3-5-20; 4:15 pm]

BILLING CODE 7905-01-P